DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 1, 2005.

Interested persons are invited to submit written comments regarding the subject matter of the investigations to the Director, Division of Trade Adjustment Assistance, at the address shown below, not later than July 1, 2005.

The petitions filed in this case are available for inspection at the Office of the Director, Division of Trade Adjustment Assistance, Employment and Training Administration, U.S. Department of Labor, Room C-5311, 200 Constitution Avenue, NW., Washington, DC 20210.

Signed at Washington, DC, this 14th day of June, 2005.
Timothy Sullivan,
Director, Division of Trade Adjustment Assistance.

Appendix
[Petitions instituted between 05/23/2005 and 06/03/2005]
TA-W | Subject firm (petitioners) | Location | Date of institution | Date of petition
57,232 | Ingram Micro (Comp) | Santa Ana, CA | 05/23/2005 | 05/09/2005
57,233 | Culp, Inc. (Wkrs) | High Point, NC | 05/23/2005 | 05/19/2005
57,234 | Lucent Technologies, Inc. (Wkrs) | Westford, MA | 05/23/2005 | 05/18/2005
57,235 | 3M Company (State) | Stillwater, MN | 05/23/2005 | 05/20/2005
57,236 | Pinnacle Foods Group, Inc. (Comp) | Erie, PA | 05/23/2005 | 05/18/2005
57,237 | Tingstol Company (State) | Golden Valley, MN | 05/23/2005 | 05/19/2005
57,238 | Rieter Greensboro, Inc. (Comp) | Greensboro, NC | 05/23/2005 | 05/20/2005
57,239 | Materials Processing, Inc. (Comp) | Bradner, OH | 05/23/2005 | 05/18/2005
57,240 | Consolidated Metco-Rivergate (IAM) | Portland, OR | 05/24/2005 | 05/09/2005
57,241 | Victor Forstmann, Inc. (State) | E. Dublin, GA | 05/24/2005 | 05/19/2005
57,242 | K and C Custom Design, Inc. (Comp) | Greenville, SC | 05/24/2005 | 05/19/2005
57,243 | Celanese Acetate (UNITE) | Narrows, VA | 05/24/2005 | 05/17/2005
57,244 | Alcatel, Inc. (State) | Plano, TX | 05/24/2005 | 05/12/2005
57,245 | Delta Airlines, Inc. (Wkrs) | Atlanta, GA | 05/24/2005 | 05/23/2005
57,246 | TRW Automotive (Comp) | Warrensville Hg, OH | 05/24/2005 | 05/24/2005
57,247 | Menasha Packaging (State) | Neenah, WI | 05/24/2005 | 05/24/2005
57,248 | Arkay Industries (Comp) | Belcamp, MD | 05/24/2005 | 05/16/2005
57,249 | Lamplight Farms, Inc. (Comp) | Menomonee Falls, WI | 05/24/2005 | 05/24/2005
57,250 | Flowline Division, Markovitz Enterprises (Comp) | Whiteville, NC | 05/24/2005 | 05/24/2005
57,251 | J.C. Viramontes (Comp) | El Paso, TX | 05/25/2005 | 05/23/2005
57,252 | Bemis Company, Inc. (Comp) | West Hazelton, PA | 05/25/2005 | 05/23/2005
57,253 | Vision Knits, Inc. (Comp) | Albemarle, NC | 05/25/2005 | 05/24/2005
57,254 | Holcim US, Inc (Wkrs) | Dundee, MI | 05/25/2005 | 05/05/2005
57,255 | Black-n-Decker (Wkrs) | Fayetteville, NC | 05/25/2005 | 05/01/2005
57,256 | AC Nielson Trade Dimensions (Wkrs) | Wilton, CT | 05/25/2005 | 05/11/2005
57,257 | IEC Electronics (Wkrs) | Newark, NY | 05/25/2005 | 05/16/2005
57,258 | Virginia Metalcrafters, Inc. (Wkrs) | Waynesboro, VA | 05/25/2005 | 05/17/2005
57,259 | Omni Intergrated Technologies (State) | Fairfield, OH | 05/25/2005 | 05/09/2005
57,260 | Renfro Corporation (Wkrs) | Ft. Payne, AL | 05/26/2005 | 05/25/2005
57,261 | Burlington Futon Company (Wkrs) | Burlington, VT | 05/26/2005 | 05/20/2005
57,262 | Raybestors Automotive Components (UAW) | Sterling Height, MI | 05/26/2005 | 05/24/2005
57,263 | Whaling Manufacturing Co., Inc. (Wkrs) | Fall River, MA | 05/26/2005 | 05/26/2005
57,264 | Kasco Corporation (Comp) | St. Louis, MO | 05/27/2005 | 04/26/2005
57,265 | Transcanada GTN System (State) | Redmond, OR | 05/27/2005 | 05/26/2005
57,266 | Ind. Control Associates (State) | Cartersville, GA | 05/27/2005 | 04/30/2005
57,267 | Texas Boot, Inc. (Comp) | Waynesboro, TN | 05/27/2005 | 05/03/2005
57,268 | Dun and Bradstreet (Wkrs) | Austin, TX | 05/27/2005 | 05/20/2005
57,269 | Temple Inland (AWPPW) | Antioch, CA | 05/27/2005 | 05/19/2005
57,270 | TRW Automotive (Comp) | El Paso, TX | 06/01/2005 | 05/23/2005
57,271 | Cerro Flow Products, Inc. (USWA) | St. Louis, MO | 06/01/2005 | 05/31/2005
57,272 | Calumet Lubricants Co., L.P. (Comp) | Reno, PA | 06/01/2005 | 05/25/2005
57,273 | Bernhardt Company, Plant 5 (Wkrs) | Lenoir, NC | 06/01/2005 | 05/25/2005
57,274 | Laidlaw Corporation (Comp) | Monticello, WI | 06/01/2005 | 05/27/2005
57,275 | Integra Tool and Mold, Inc. (Wkrs) | Erie, PA | 06/01/2005 | 05/27/2005
57,276 | Johnson Controls (State) | Watertown, WI | 06/01/2005 | 05/27/2005
57,277 | Hilltop Cedar (Comp) | St. Maries, ID | 06/01/2005 | 05/27/2005
57,278 | Meyersdale Mfg. Co. (UNITE) | Meyersdale, PA | 06/01/2005 | 05/31/2005
57,279 | Guardsmark, LLC (Comp) | Macon, GA | 06/01/2005 | 05/24/2005
57,280 | ElringKlinger Sealing Systems (USA), Inc (Comp) | Livonia, MI | 06/02/2005 | 05/27/2005
57,281 | Continental J.C., Inc. (Comp) | New York, NY | 06/02/2005 | 06/01/2005
57,282 | Bernhardt Furniture (Wkrs) | Lenoir, NC | 06/02/2005 | 05/25/2005
57,283 | Safegard Corporation (Wkrs) | Lancaster, KY | 06/02/2005 | 05/23/2005
57,284 | Samsung (State) | Woodbury, MN | 06/02/2005 | 06/01/2005
57,285 | Pemstar (State) | Chaska, MN | 06/02/2005 | 06/01/2005
57,286 | Bareville Garment Corp. (Comp) | Martindale, PA | 06/02/2005 | 05/26/2005
57,287 | Stora Enso North America (Comp) | Wisconsin Rapid, WI | 06/02/2005 | 06/01/2005
57,288 | Dana Glacier Vandervell, N.A. (Wkrs) | Caldwell, OH | 06/02/2005 | 06/01/2005
57,289 | Lane Home Furnishings (Wkrs) | Tupelo, MS | 06/02/2005 | 05/18/2005
57,290 | Paslode (Comp) | Cleveland, MS | 06/02/2005 | 05/23/2005
57,291 | GE Consumer and Industrial (Wkrs) | St. Louis, MO | 06/02/2005 | 06/01/2005
57,292 | JDS Uniphase (State) | Santa Rosa, CA | 06/02/2005 | 05/27/2005
57,293 | Hayes Lemmerz (State) | La Mirada, CA | 06/02/2005 | 06/02/2005
57,294 | Hawley Products, Inc. (Comp) | Paducah, KY | 06/02/2005 | 05/25/2005
57,295 | Findlay Industries, Inc. (Comp) | Findlay, OH | 06/02/2005 | 05/31/2005
57,296 | Penn Metal Stamping, Inc. (Wkrs) | St. Mary's, PA | 06/02/2005 | 05/24/2005
57,297 | Fashionspun Sales and Develop. (Comp) | New York, NY | 06/02/2005 | 05/19/2005
57,298 | Guilford Mills, Inc. (Comp) | Greensboro, NC | 06/03/2005 | 05/03/2005
57,299 | Bradley Scott Clothes (Comp) | Fall River, MA | 06/03/2005 | 06/01/2005
57,300 | Aegis Communications (Comp) | Irving, TX | 06/03/2005 | 05/24/2005
57,301 | Contec, LLC (Comp) | Seatac, WA | 06/03/2005 | 06/01/2005
57,302 | Emerson Process Management (Wkrs) | Austin, TX | 06/03/2005 | 06/03/2005
57,303 | TI Automotive (Comp) | Normal, IL | 06/03/2005 | 06/02/2005
57,304 | Phil Knit, Inc. (Comp) | Liberty, NC | 06/03/2005 | 05/26/2005
57,305 | Robcol, Inc. (Wkrs) | Shippenville, PA | 06/03/2005 | 05/23/2005
57,306 | Bernhardt (Wkrs) | Lenoir, NC | 06/03/2005 | 05/25/2005
57,307 | Traverse Precision, Inc. (Comp) | Williamsburg, MI | 06/03/2005 | 05/16/2005
57,308 | Sonic Manufacturing Technologies (State) | Fremont, CA | 06/03/2005 | 05/26/2005
57,309 | Kulicke and Soffa (State) | Hayward, CA | 06/03/2005 | 05/26/2005
57,310 | Autodie International, Inc. (Comp) | Grand Rapids, MI | 06/03/2005 | 05/26/2005
57,311 | EMA, Inc. (Wkrs) | New York, NY | 06/03/2005 | 05/16/2005
57,312 | Transwestern Polymers, Inc. (State) | Livermore, CA | 06/03/2005 | 05/20/2005
57,313 | Dorby Frocks (Comp) | Bishopville, SC | 06/03/2005 | 05/16/2005
57,314 | Wex Tex Industries (Wkrs) | Ashford, AL | 06/03/2005 | 06/01/2005

[FR Doc. E5-3234 Filed 6-21-05; 8:45 am]

BILLING CODE 4510-30-P